DEPARTMENT OF HEALTH AND HUMAN SERVICES

Administration for Children and Families

Submission for OMB Review; Family Level Assessment and State of Home Visiting (FLASH-V) Outreach and Recruitment Study (New Collection)

AGENCY: Office of Planning, Research, and Evaluation, Administration for Children and Families, HHS.

ACTION: Request for public comment.

SUMMARY: The Administration for Children and Families (ACF) Office of Planning, Research, and Evaluation is requesting public comment on new data collection activities to gather information about how Maternal, Infant, and Early Childhood Home Visiting (MIECHV) state and territory local implementing agencies (LIAs) and tribal grantees recruit families for program participation and work with their community referral partners to recruit families. The project is designed to examine challenges programs experience reaching caseload capacity and promising strategies to address how challenges might be overcome.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ACF Office of Planning, Research, and Evaluation is proposing a new information collection to learn more about how MIECHV-funded home visiting programs recruit families for home visiting services. The voluntary study will include a national survey of MIECHV-funded program managers, semi-structured interviews with program staff, and a review of program outreach and recruitment materials. This descriptive work will capture how programs identify and recruit families to home visiting services. The study will also capture how outreach and recruitment challenges and accomplishments related to capacity have changed since COVID-19 and identify strategies programs have used to address associated challenges. The activities and products from this project will help ACF and the Health Resources and Services Administration to identify actionable bottlenecks in the outreach and recruitment process to allow for the development and testing of strategies to improve the delivery of MIECHV funded services.

Respondents: MIECHV funded state, territory, or tribal grantee administrators; program administrators; program managers; and frontline staff.

Annual Burden Estimates
Instrument | Total number of respondents | Number of responses per respondent | Average burden hours per response | Total burden hours | Annual burden hours
Request for LIA Contact Information from MIECHV Leads | 56 | 1 | .25 | 14 | 7
LIA Survey | 779 | 1 | .50 | 390 | 195
Interview Protocol Local Implementing Agency | 120 | 1 | .75 | 90 | 45

Estimated Total Annual Burden Hours: 247 hours.

Authority: Social Security Act Title V § 511 [42 U.S.C. 711]. As extended by the Bipartisan Budget Act of 2018 (Pub. L. 115-123) through FY 22.

John M. Sweet Jr.,
ACF/OPRE Certifying Officer.

[FR Doc. 2020-20733 Filed 9-18-20; 8:45 am]

BILLING CODE 4182-74-P